DEPARTMENT OF HEALTH AND HUMAN SERVICES

Health Resources And Services Administration

Agency Information Collection Activities: Proposed Collection: Comment Request

In compliance with the requirement for opportunity for public comment on proposed data collection projects (section 3506(c)(2)(A) of Title 44, United States Code, as amended by the Paperwork Reduction Act of 1995, Public Law 104-13), the Health Resources and Services Administration (HRSA) publishes periodic summaries of proposed projects being developed for submission to OMB under the Paperwork Reduction Act of 1995. To request more information on the proposed project or to obtain a copy of the data collection plans and draft instruments, call the HRSA Reports Clearance Officer on (301) 443-1129.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: U.S. Component of the 2001/2002 World Health Organization Study of Health Behavior in School Children (WHO-HPSC): New

The Office of Data and Information Management (ODIM), Maternal and Child Health Bureau (MCHB), Health Resources and Services Administration (HRSA), will participate on behalf of the United States in the 2001/2002 WHO Study of Health Behavior in School Children. The information proposed for collection will be used by MCHB, HRSA, and the National Institutes of Health (NIH) to increase understanding of adolescent health to improve the quality of health programs and services. This cross-national research study will collect survey data to study adolescent health status and behaviors in relation to their social and supportive environment. Types of data will include measures of physical activity, body size, nutrition, social inequality, diversity, injury, violence, and perceptions of peers, school and family as supportive.

The estimated response burden is as follows:

Form | Number of respondents | Responses per respondent | Hours per response | Total burden hour
Survey | 17,500 | 1 | .75 | 13,125

Send comments to Susan G. Queen, Ph.D., HRSA Reports Clearance Officer, Room 14-33, Parklawn Building, 5600 Fishers Lane, Rockville, MD 20857. Written comments should be received within 60 days of this notice.

Dated: February 6, 2001.
Jane M. Harrison,
Director, Division of Policy Review and Coordination.

[FR Doc. 01-3489 Filed 2-9-01; 8:45 am]

BILLING CODE 4160-15-P